Proclamation 7661 of April 9, 2003

National D.A.R.E. Day, 2003

By the President of the United States of America

A Proclamation

Drugs destroy the hopes, dreams, and the health of our children, and we must continue to work to reduce drug use among America's young people. Today we honor Drug Abuse Resistance Education (D.A.R.E.), the most widely recognized substance abuse and violence prevention curriculum in America. As we celebrate the 20th anniversary of this important program, we recognize D.A.R.E.'s proud record of helping millions of young people lead productive, drug-free, and violence-free lives, and reaffirm our commitment to end illegal drug use among our youth.

D.A.R.E. was founded in 1983 by the Los Angeles Police Department (LAPD), which faced an overwhelming drug use problem among juveniles and saw the need for a program to educate children and young adults about the destructive realities of substance abuse. Teaming with the Los Angeles Unified School District, the LAPD sent specially trained police officers into classrooms to teach middle school students how to resist peer pressure and make positive decisions. Since that beginning 20 years ago, D.A.R.E. has grown to reach 36 million students in more than 300,000 classrooms in the United States and around the world. Today, D.A.R.E. programs are taught in 80 percent of our Nation's school districts.

D.A.R.E.'s in-school curriculum focuses on giving children practical skills to avoid becoming involved in drugs, gangs, and violence. D.A.R.E. officers serve as supportive role models and encourage young people to develop healthy self-esteem. D.A.R.E. also helps young people in the critical after-school hours through D.A.R.E. P.L.U.S. (Play and Learn Under Supervision), a follow-up program that serves as a safe and fun alternative to the local streets. D.A.R.E. P.L.U.S. is designed to encourage middle school students to start taking responsibility for their actions and to engage in activities other than drug use.

One of the core principles of my National Drug Control Strategy is to stop drug use before it starts, and D.A.R.E. and D.A.R.E. P.L.U.S. play an important role in my community-based approach. Through these programs, parents, educators, law enforcement officials, and other caring citizens are joining together in a collaborative fight against illegal drugs. However, we have more to do to reduce illegal drug use among America's youth. The most effective way to reduce the supply of drugs is to reduce the demand, and I am confident that we can help accomplish this goal through a focus on effective, family-centered education and prevention.

Toward this end, I have proposed the creation of a Parents Drug Corps to educate and train parents to lead the effort in preventing drug use among children and teens. In addition, I have asked the Congress to support millions of parents and concerned citizens in communities nationwide by doubling funding for the Drug-Free Communities Support Program. These new efforts will complement our ongoing work to surround our most vulnerable children with caring adults who can offer support, guidance, and encouragement.

As we honor the dedicated individuals whose extraordinary efforts make D.A.R.E. work, we resolve to continue to help young people avoid the dangers of drug use and violence. By helping to ensure that all our children are educated and supported by positive and caring role models, we contribute to a promising future that offers hope and opportunity for all.

NOW, THEREFORE, I, GEORGE W. BUSH, President of the United States of America, by virtue of the authority vested in me by the Constitution and laws of the United States, do hereby proclaim April 10, 2003, as National D.A.R.E. Day. I call upon all the people of the United States, particularly our youth, parents, and educators, to observe this day by joining the fight against drugs in our communities. I also encourage our citizens to express appreciation for the law enforcement officers, volunteers, and others who work to help young people avoid the dangers of drug use.

IN WITNESS WHEREOF, I have hereunto set my hand this ninth day of April, in the year of our Lord two thousand three, and of the Independence of the United States of America the two hundred and twenty-seventh.

B

[FR Doc. 03-9172

Filed 4-10-03; 11:24 am]

Billing code 3195-01-P